NUCLEAR REGULATORY COMMISSION

[NRC-2013-0227]

Operator Licensing Examination Standards for Power Reactors

AGENCY: Nuclear Regulatory Commission.

ACTION: NUREG; issuance.

SUMMARY: The U.S. Nuclear Regulatory Commission (NRC) is issuing NUREG-1021, Revision 10, “Operator Licensing Examination Standards for Power Reactors, Final Report.” This NUREG provides policy and guidance for the development, administration, and grading of examinations used for licensing operators at nuclear power plants pursuant to the Commission's regulations.

DATES: Revision 10 of NUREG-1021 is available January 2, 2015.

ADDRESSES: Please refer to Docket ID NRC-2013-0227 when contacting the NRC about the availability of information regarding this document. You may obtain publicly-available information related to this document using any of the following methods:

• Federal Rulemaking Web site: Go to http://www.regulations.gov and search for Docket ID NRC-2013-0227. Address questions about NRC dockets to Carol Gallagher; telephone: 301-287-3422; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 10 of NUREG-1021 is available in ADAMS under Accession No. ML14352A297. Draft NUREG-1021, Revision 10 is available in ADAMS under Accession No. ML13325A090.

• NRC's PDR: You may examine and purchase copies of public documents at the NRC's PDR, Room O1-F21, One White Flint North, 11555 Rockville Pike, Rockville, Maryland 20852.

FOR FURTHER INFORMATION CONTACT: James Kellum, Office of New Reactors, telephone: 301-415-5305, email: Jim.Kellum@nrc.gov; or Timothy Kolb, Office of Nuclear Reactor Regulation, telephone: 301-415-1428, email: Timothy.Kolb@nrc.gov; U.S. Nuclear Regulatory Commission, Washington, DC 20555-0001.

SUPPLEMENTARY INFORMATION: Revision 10 of NUREG-1021 provides policy and guidance for the development, administration, and grading of examinations used for licensing operators at nuclear power plants pursuant to the Commission's regulations in Part 55 of Title 10 of the Code of Federal Regulations, “Operator Licenses.” This NUREG also provides guidance for maintaining operators' licenses, and for the NRC to conduct requalification examinations when necessary.

Revision 10 of NUREG-1021 replaces Revision 9, Supplement 1, of NUREG-1021. Draft NUREG-1021, Revision 10, was published in the Federal Register for public comment on December 9, 2013 (78 FR 73898). The NRC received 90 public comments from private citizens and industry organizations. The comments were generally in agreement with the draft revisions to the NUREG. Revision 10 of NUREG-1021 incorporates the comments received on draft NUREG-1021, Revision 10. The NRC staff's evaluation and resolution of the public comments are documented in ADAMS under Accession No. ML14345A266.

Dated at Rockville, Maryland, this 22nd day of December, 2014.
For the Nuclear Regulatory Commission.
Michael Junge,
Chief, Operator Licensing and Human Performance Branch, Division of Construction Inspection and Operational Programs, Office of New Reactors.

[FR Doc. 2014-30769 Filed 12-31-14; 8:45 am]

BILLING CODE 7590-01-P